DEPARTMENT OF THE INTERIOR

Bureau of Indian Affairs

Corrections to the Notice of Availability of the Draft Environmental Impact Statement for the Proposed Cordova Oil Spill Response Facility, Cordova, AK

AGENCY: Bureau of Indian Affairs, Interior.

ACTION: Notice.

SUMMARY: This notice advises the public of two corrections to the Notice of Availability of the Draft Environmental Impact Statement for the proposed Cordova Oil Spill Response Facility, Cordova, Alaska, which was published in the Federal Register on December 22, 2005 (70 FR 76066-76067) and which described the proposed action. These corrections are as follows:

• The two-letter abbreviation for Alaska in the Notice heading was incorrectly given as “AL.” The correct abbreviation for Alaska is AK.

• The project website in the ADDRESSES section of the Notice was incorrect. The correct Web site is http://www.cordovaresponsefacility.com.

FOR FURTHER INFORMATION CONTACT: Kristin K'eit, (907) 586-7423.

SUPPLEMENTARY INFORMATION: This notice is published in accordance with sections 1503.1, 1506.6 and 1508.22 of the Council of Environmental Quality Regulations (40 CFR, parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.

Dated: January 4, 2006.
Michael D. Olsen,
Acting Principal Deputy Assistant Secretary—Indian Affairs.

[FR Doc. E6-140 Filed 1-10-06; 8:45 am]

BILLING CODE 4310-W7-P